DEPARTMENT OF THE INTERIOR

National Park Service

National Register of Historic Places; Notification of Pending Nominations

Nominations for the following properties being considered for listing in the National Register were received by the National Park Service before February 23, 2002.

Pursuant to § 60.13 of 36 CFR Part 60 written comments concerning the significance of these properties under the National Register criteria for evaluation may be forwarded by United States Postal Service, to the National Register of Historic Places, National Park Service, 1849 C St. NW, NC400, Washington, DC 20240; by all other carriers, National Register of Historic Places, National Park Service, 800 N. Capitol St. NW, Suite 400, Washington DC 20002; or by fax, 202-343-1836 . Written or faxed comments should be submitted by March 26, 2002.

Paul R. Lusignan,
Acting Keeper of the National Register of Historic Places.

COLORADO

Denver County

Photography and Armament School Buildings, Lowry Air Force Base, 125 and 130 Rampart Way and 7600 East First Place, Denver, 02000288

Morgan County

Morgan County Courthouse and Jail, 225 Ensign and 218 West Kiowa, Fort Morgan, 02000289

Pitkin County

Ute Cemetery, Ute Ave., Aspen, 02000291

Weld County

Nettleton—Mead House, 1303 9th Ave., Greeley, 02000290

GEORGIA

Cherokee County

Canton Cotton Mills No. 2, 200 Ball Ground Hwy., Canton, 02000293

Thomas County

Paradise Park Historic District (Boundary Increase), 502 S. Broad St., Thomasville, 02000292

IOWA

Polk County

Evans, Edward B. and Nettie E., House, 1410 19th St., Des Moines, 02000294

LOUISIANA

Pointe Coupee Parish

Valverda Plantation House, 2217 LA 977, Maringouin, 02000297

Tensas Parish

Waterproof High School, Main St., bet. Church Ln. and Mississippi St., Waterproof, 02000296

MICHIGAN

Cass County

First Methodist Episcopal Church of Pokagon, 60041 Vermont St., Pokagon Township, 02000295

NEVADA

Lander County

Toquima Cave, Humboldt—Toiyabe National Forest, Austin, 02000298

NEW YORK

Chenango County

Upperville Meeting House, NY 80, Upperville, 02000307

Delaware County

Van Benschoten House and Guest House, Margaretville Mountain Rd., Margaretville, 02000302

Dutchess County

Beth David Synagogue, E. Main St., Amenia, 02000308 Indian Rock Schoolhouse, Mygatt Rd., Amenia, 02000306

Genesee County

Batavia Cemetery, Harvester Ave., Batavia, 02000309

Monroe County

First Presbyterian Church of Mumford, George and William Sts., Mumford, 02000299

Montgomery County

Enlarged Double Lock No. 33 Old Erie Canal, Towpath Rd., St. Johnsville, 02000315

Queens County

Long Island Motor Parkway, Roughly Alley Pond and Cunningham Parks, bet. Winchester Blvd. and Clearview Expressway, bet. 73rd Ave. and Peck Ave., Queens, 02000301

Saratoga County

Barker General Store, 1 Military Rd., Beecher Hollow, 02000303

St. Lawrence County

First Presbyterian Church of Dailey Ridge, 411 Elliot Rd., Potsdam, 02000300

Tioga County

Evergreen Cemetery, East Ave., bet. Erie St. and Prospect St., Owego, 02000305

First Methodist Episcopal Church of Tioga Center, NY 17C, Tioga, 02000304

VIRGINIA

Fluvanna County

Laughton, VA 623, Kents Store, 02000318

Western View, VA 658, Fork Union, 02000320

Hanover County

Spring Green, 2160 Old Church Rd., Mechanicsville, 02000316

Northampton County

Almshouse Farm at Machipongo, 12402 Lankford Hwy., Machipongo, 02000317

Brown's, James, Dry Goods Store, 16464 Courthouse Rd., Eastville, 02000321

Southampton County

Aspen Lawn, 4438 Hiscksford Rd., Drewryville, 02000319

Washington County

Pitts, Dr. William H., House, 247 E. Main St., Abingdon, 02000322

WASHINGTON

Cowlitz County

Modrow Bridge (Bridges and Tunnels Built in Washington State, 1951-1960 MPS) Modrow Rd. over Kalama R., Kalama, 02000310

King County

Foss River Bridge (Bridges and Tunnels Built in Washington State, 1951-1960 MPS) Jack Bird Rd. No. 89440 over Foss R., Skykomish, 02000312

Mt. Si Bridge (Bridges and Tunnels Built in Washington State, 1951-1960 MPS) Mount Si Rd. over Middle Fork of the Snoqualmia R., North Bend, 02000324

Stossel Bridge (Bridges and Tunnels Built in Washington State, 1951-1960 MPS), NE Carnation Farm Rd. over Snoqualmie R., Carnation, 02000325

Klickitat County

B-Z Corner Bridge (Bridges and Tunnels Built in Washington State, 1951-1960 MPS), B-Z Corner—Glenwood Rd. over White Salmon River, B-Z Corner, 02000314

Skagit County

Dalles Bridge (Bridges and Tunnels Built in Washington State, 1951-1960 MPS), Concrete Sauk Valley Rd. across the Skagit R., Concrete, 02000323

Rainbow Bridge, Pioneer Parkway over the Swinomish Channel, La Conner, 02000313

Skamania County

Conrad Lundy Jr. Bridge (Bridges and Tunnels Built in Washington State, 1951-1960 MPS), Wind River Rd. over Wind River Canyon, Carson, 02000326

Snohomish County

Red Bridge (Bridges and Tunnels Built in Washington State, 1951-1960 MPS), Mountain Loop Hwy. over Stillaguamish R., Silverton, 02000311

WISCONSIN

Fond Du Lac County

Ebert, Rudolph and Louise, House, 199 E. Division St., Fond du Lac, 02000327

[FR Doc. 02-5706 Filed 3-8-02; 8:45 am]

BILLING CODE 4310-70-P